DEPARTMENT OF TRANSPORTATION

Federal Aviation Administration

14 CFR Part 39

[Docket No. FAA-2011-0099; Product Identifier 2010-SW-085-AD]

RIN 2120-AA64

Airworthiness Directives; Sikorsky Aircraft Corporation Model S-76A, S-76B, and S-76C Helicopters Modified by Supplemental Type Certificate SR09211RC

AGENCY: Federal Aviation Administration (FAA), DOT.

ACTION: Proposed rule; withdrawal.

SUMMARY: The FAA is withdrawing a notice of proposed rulemaking (NPRM) that proposed to adopt a new airworthiness directive (AD) that would have applied to all Sikorsky Aircraft Corporation (Sikorsky) S-76 model helicopters with a certain life raft deployment system (LRDS) installed per Supplemental Type Certificate (STC) SR09211RC. The NPRM was prompted by an incident that occurred where the handle bent prior to the life raft deploying, and this prohibited the crew from successfully deploying and using the life raft. It was determined that the handle in this incident was not manufactured to the approved Type Design. The NPRM would have required removing and replacing the pilot or co-pilot life raft deployment handle (handle) located on the left side of the “broom closet” of the helicopter. Since issuance of the NPRM, the FAA determined that, based on a review of the design approval holder's records, all of the handles have been replaced. Accordingly, the NPRM is withdrawn.

DATES: The FAA is withdrawing the proposed rule published March 1, 2011 (76 FR 11174), as of February 22, 2021.

ADDRESSES:

Examining the AD Docket

You may examine the AD docket on the internet at https://www.regulations.gov by searching for and locating Docket No. FAA-2011-0099; or in person at Docket Operations between 9 a.m. and 5 p.m., Monday through Friday, except Federal holidays. The AD docket contains this AD action, any comments received, and other information. The street address for Docket Operations is U.S. Department of Transportation, Docket Operations, M-30, West Building Ground Floor, Room W12-140, 1200 New Jersey Avenue SE, Washington, DC 20590.

FOR FURTHER INFORMATION CONTACT: Jonas Perez, Aviation Safety Engineer, Fort Worth ACO Branch, FAA, 10101 Hillwood Pkwy., Fort Worth, TX 76177; telephone 817-222-5145; email Jonas.Perez@faa.gov.

SUPPLEMENTARY INFORMATION:

Discussion

The FAA has issued an NPRM that proposed to amend 14 CFR part 39 by adding an AD that would apply to the specified products. The NPRM was published in the Federal Register on March 1, 2011 (76 FR 11174). The NPRM was prompted by an incident that occurred where the handle bent prior to the life raft deploying, and this prohibited the crew from successfully deploying and using the life raft. It was determined that the handle in this incident was not manufactured to the approved Type Design.

The NPRM proposed to require removing and replacing the pilot or co-pilot handle located on the left side of the “broom closet” of the helicopter. The proposed actions were intended to address bending of the handle, which could result in failure of the life raft to deploy. This failure could lead to loss of access to the life raft after an emergency ditching on water.

Actions Since the NPRM Was Issued

Since issuance of the NPRM, the FAA determined that, based on a review of the design approval holder's records, all of the handles have been replaced, which addresses the identified unsafe condition. Therefore, the FAA determined that AD action is not appropriate.

Withdrawal of the NPRM constitutes only such action and does not preclude the FAA from further rulemaking on this issue, nor does it commit the FAA to any course of action in the future.

Comments

The FAA gave the public the opportunity to comment on the NPRM. The FAA received no comments on the NPRM or on the determination of the cost to the public.

FAA's Conclusions

Upon further consideration, the FAA determined that the NPRM is unnecessary. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2011-0099, which was published in the Federal Register on March 1, 2011 (76 FR 11174), is withdrawn.

Issued on January 20, 2021.
Gaetano A. Sciortino,
Deputy Director for Strategic Initiatives, Compliance & Airworthiness Division, Aircraft Certification Service.

[FR Doc. 2021-01623 Filed 2-19-21; 8:45 am]

BILLING CODE 4910-13-P